DEPARTMENT OF COMMERCE

National Oceanic and Atmospheric Administration

[I.D. 021600D]

Caribbean Fishery Management Council; Public Meetings

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on March 14-16, 2000. See SUPPLEMENTARY INFORMATION for specific dates and times.

ADDRESSES: All meetings will be held at the Villa Parguera Hotel, 304 St., Km. 3.3, La Parguera, Lajas, Puerto Rico.

FOR FURTHER INFORMATION CONTACT: Caribbean Fishery Management Council, 268 Munoz Rivera Avenue, Suite 1108, San Juan, Puerto Rico 00918-2577; telephone: (787) 766-5926.

SUPPLEMENTARY INFORMATION: The Council will hold its 100th regular public meeting to discuss the items contained in the following agenda:

Conflict of Interest Presentation

Essential Fish Habitat

-Side Scan Sonar Work, La Parguera

-Fishing Gear Impact Study La Parguera

Reef Fish Fishery Management Plan (FMP)

-Gear Impact Update

Queen Conch FMP

-Option Paper for Amendment Number 1

Coastal Pelagics FMP (Wahoo/Dolphin)

-Committees Meetings Report

Enforcement

-Federal Government

-Puerto Rico

-U.S. Virgin Islands

Administrative Committee Recommendations

Meetings Attended by Council Members and Staff

Other Business

Next Council Meeting

The Council will convene on Wednesday, March 15, 2000, from 9:00 a.m. to 5:00 p.m., through Thursday, March 16, 2000, from 9:00 a.m. until noon, approximately.

The Administrative Committee will meet on Tuesday, March 14, 2000, from 2:00 p.m. to 5:00 p.m., to discuss administrative matters regarding Council operation.

The meetings are open to the public, and will be conducted in English. However, simultaneous interpretation (Spanish-English) will be available during the Council meeting (March 15-16, 2000). Fishers and other interested persons are invited to attend and participate with oral or written statements regarding agenda issues.

Although non-emergency issues not contained in this agenda may come before this Council for discussion, those issues may not be the subject of formal Council action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. For more information or request for sign language interpretation and/other auxiliary aids, please contact Mr. Miguel A. Rolon, Executive Director, Caribbean Fishery Management Council (see FOR FURTHER INFORMATION CONTACT) at least 5 days prior to the meeting date.

Dated: February 22, 2000.
Bruce C. Morehead,
Acting Director, Office of Sustainable Fisheries, National Marine Fisheries Service.

[FR Doc. 00-4625 Filed 2-25-00; 8:45 am]

BILLING CODE 3510-22-F